DEPARTMENT OF TRANSPORTATION

Coast Guard

33 CFR Part 165

[CGD09-01-043]

RIN 2115-AA97

Safety Zone; Festa Italiana 2001, Milwaukee Harbor, WI

AGENCY: Coast Guard, DOT.

ACTION: Temporary final rule; correction.

SUMMARY: The Coast Guard published a temporary final rule on July 2, 2001, creating a safety zone for the Festa Italiana 2001 fireworks in Milwaukee Harbor, Milwaukee, WI. The section number in that rule was incorrect. This document corrects the section number.

DATES: Effective on August 23, 2001.

FOR FURTHER INFORMATION CONTACT: Lieutenant Commander Timothy Sickler, Port Operations Chief, Marine Safety Office Milwaukee, 2420 South Lincoln Memorial Drive, Milwaukee, WI 53207. The phone number is (414) 747-7155.

SUPPLEMENTARY INFORMATION:

Background and Purpose

The Coast Guard published a temporary safety zone in the Federal Register on July 2, 2001 (66 FR 34841), adding temporary § 165.T09-930.

Need for Correction

As published, that section number was incorrect. That section number is assigned to another CFR section. This document corrects the section number.

Correction of Publication

In rule FR Doc. 01-16586 published on July 2, 2001 (66 FR 34841). Make the following corrections. On page 34842, in the second column, on lines 43 and 45, change the section number of the temporary safety zone to read § 165.T09-974.

M.R. DeVries,
Commander, U.S. Coast Guard, Captain of the Port Milwaukee, Milwaukee, WI.

[FR Doc. 01-21355 Filed 8-22-01; 8:45 am]

BILLING CODE 4910-15-P